DEPARTMENT OF HEALTH AND HUMAN SERVICES

Centers for Disease Control and Prevention

[60Day-09-08AA]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of health communication messages for Infertility Prevention Campaign—New—National Center for HIV, Hepatitis, Sexually Transmitted Disease Prevention, and Tuberculosis Prevention (NCHHSTP), Division of Sexually Transmitted Disease Prevention (DSTDP), Centers for Disease Control and Prevention (CDC).

Background and Brief Description

Chlamydia (CT) is among the leading causes of pelvic inflammatory disease (PID), which can lead to infertility, ectopic pregnancy, and chronic pelvic pain. Most cases of CT are asymptomatic so infected girls and women are unaware of their infections. CDC estimates that in 2006, young women aged 15 to 19 years had the highest CT rate (2,862 cases per 100,000 females), followed by women aged 20 to 24 (2,797 cases per 100,000 females). These rates are likely to be underestimates, because many infected persons do not seek medical care and testing. Data at CDC suggests that CT develops into PID in up to 40% of untreated women and that 12% of women are infertile after their first experience with PID.

CDC plans to obtain public preferences that will guide the development of health communication messages/materials about CT with females in the following age groups: 15-17 years who attend school; 15-17 years who do not attend school; 18-25 years who are employed; and 18-25 years who attend school full-time. Focus groups will be conducted at local pre-determined focus group facilities, and surveys will be conducted online and in malls. Women ages 18-25 years, both employed and working full-time, will be recruited by phone through professional recruitment vendors for focus groups; and in malls and on social networking sites for surveys. Girls ages 15-17 years, who do and do not attend school full-time, will be recruited by phone through professional recruitment vendors for focus groups, once parental consent is obtained; and in malls and through social networking sites (without parental consent) for surveys. The Academy for Educational Development (contractor to which this task order, #200-2006-F-19070, was awarded) will be conducting the research.

There are no costs to the respondents other than their time.

Estimated Annualized Burden Hours
Respondents | Number of respondents | Responses per respondent | Average burden per response (in hours) | Total burden hours
Screener (15-17 yr old) | 54 | 1 | 5/60 | 5
Screener (18-25 yr old) | 126 | 1 | 5/60 | 11
Screener (parent of 15-17 yr old) | 54 | 1 | 5/60 | 5
Focus groups | 180 | 1 | 2 | 360
Mall intercept screener & moderators guide | 200 | 1 | 10/60 | 33
Online screener & surveys | 500 | 1 | 8/60 | 67
Total | 1,114 |  |  | 481

Dated: January 29, 2009.
Maryam I. Daneshvar,
Acting Reports Clearance Officer, Centers for Disease Control and Prevention.

[FR Doc. E9-2440 Filed 2-4-09; 8:45 am]

BILLING CODE 4163-18-P